DEPARTMENT OF ENERGY

Federal Energy Regulatory Commission

[Docket Nos. IC21-19-000, RD21-4-000]

Commission Information Collection Activities (FERC-725A); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-725A (Mandatory Reliability Standards for the Bulk-Power System). This notice includes the burden totals for proposed Reliability Standard FAC-008-5.

DATES: Comments on the collection of information are due July 6, 2021.

ADDRESSES: You may submit copies of your comments (identified by Docket No. IC21-19-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725A (Mandatory Reliability Standards for the Bulk-Power System).

OMB Control No.: 1902-0244.

Type of Request: Three-year extension of the FERC-725A information collection requirements with no changes to the current reporting requirements.

Abstract: On August 8, 2005, the Electricity Modernization Act of 2005, which is Title XII, Subtitle A, of the Energy Policy Act of 2005 (EPAct 2005), was enacted into law.¹ EPAct 2005 added a new section 215 to the FPA, which requires a Commission-certified electric reliability organization (ERO) (FERC-725) to develop mandatory and enforceable Reliability Standards, which are subject to Commission review and approval. Once approved, the Reliability Standards may be enforced by the ERO, subject to Commission oversight or the Commission can independently enforce Reliability Standards (FERC-725A).²

¹ Energy Policy Act of 2005, Public Law 109-58, Title XII, Subtitle A, 119 Stat. 594, 941 (2005), to be codified at 16 U.S.C. 824o.

² 16 U.S.C. 824o(e)(3).

On February 3, 2006, the Commission issued Order No. 672, implementing section 215 of the FPA.³ Pursuant to Order No. 672, the Commission certified one organization, NERC, as the ERO.⁴ The ERO is required to develop Reliability Standards, which are subject to Commission review and approval. The Reliability Standards will apply to users, owners and operators of the Bulk-Power System, as set forth in each Reliability Standard.

³ Rules Concerning Certification of the Electric Reliability Organization; Procedures for the Establishment, Approval and Enforcement of Electric Reliability Standards, Order No. 672, 71 FR 8662 (February 17, 2006), FERC Stats. & Regs. ¶ 31,204 (2006), order on reh'g, Order No. 672-A, 71 FR 19814 (April 18, 2006), FERC Stats. & Regs. ¶ 31,212 (2006).

⁴ North American Electric Reliability Corp., 116 FERC ¶ 61,062 (ERO Certification Order), order on reh'g & compliance, 117 FERC ¶ 61,126 (ERO Rehearing Order) (2006), order on compliance, 118 FERC ¶ 61,030 (2007) (January 2007 Compliance Order).

On March 16, 2007, the Commission issued Order No. 693, a Final Rule adding part 40, a new part, to the Commission's regulations. The Final Rule states that this part applies to all users, owners and operators of the Bulk-Power System within the United States (other than Alaska or Hawaii). It also requires that each Reliability Standard identify the subset of users, owners and operators to which that particular Reliability Standard applies. The new regulations also require that each Reliability Standard that is approved by the Commission will be maintained on the ERO's internet website for public inspection.

In order that the Commission is able to perform its oversight function with regard to Reliability Standards that are proposed by the ERO and established by the Commission, it is essential that the Commission receive timely information regarding all or potential violations of Reliability Standards. While section 215 of the FPA contemplates the filing of the record of an ERO or Regional Entity enforcement action, FERC needs information regarding violations and potential violations at or near the time of occurrence. Therefore, it will work with the ERO and regional reliability organizations to be able to use the electronic filing of information so the Commission receives timely information. The new regulations also require that each Reliability Standard that is approved by the Commission will be maintained on the ERO's internet website for public inspection. In accordance with section 39.5 of the Commission's regulations, the ERO must file each Reliability Standard or a modification to a Reliability Standard with the Commission. The filing is to include a concise statement of the basis and purpose of the proposed Reliability Standard, either a summary of the Reliability development proceedings conducted by the ERO or a summary of the Reliability Standard development proceedings conducted by a Regional Entity together with a summary of the Reliability Standard review proceedings of the ERO and a demonstration that the proposed Reliability Standard is “just, reasonable, not unduly discriminatory or preferential, and in the public interest.

RD21-4 (FAC-008-05)

The proposed information collection changes in Docket No. RD21-4-000 relate to the proposed Reliability Standard FAC-008-05 (Facility Ratings) developed by the North American Electric Reliability Corporation (NERC), and submitted to the Commission for approval. The Commission received NERC's petition to approve the proposed Reliability Standards.

On February 19, 2021, NERC filed a petition seeking approval of proposed Reliability Standard FAC-008-5. NERC states that proposed Reliability Standard FAC-008-5 reflects the retirement of Requirement R7 of the currently effective standard. NERC notes that this proposal was recommended following the first phase of work under the NERC Standards Efficiency Review and that in its Order No. 873 remanding a previously proposed version of the FAC-008 Reliability Standard, the Commission agreed that the retirement of Requirement R7 from the standard would not result in a reliability gap.

In June 2019, following the conclusion of the standard development process, NERC submitted a series of standard retirement proposals to the Commission. Among the proposals, NERC submitted for Commission approval proposed Reliability Standard FAC-008-4, in which NERC proposed to retire Requirements R7 and R8 of currently effective Reliability Standard FAC-008-3. In September 2020, the Commission issued Order No. 873 regarding NERC's retirement proposals. In this order, the Commission remanded proposed Reliability Standard FAC-008-4 to NERC for further consideration, citing concerns with the proposed retirement of Requirement R8 of the currently effective standard. The standard drafting team determined to develop a new version of the Reliability Standard, proposed Reliability Standard FAC-008-5, in which only Requirement R7 of the currently effective standard would be proposed for retirement. Reliability Standard FAC-008-3 Requirement R7 requires Generator Owners and Transmission Owners to provide certain information to requesting Reliability Coordinator(s), Planning Coordinator(s), Transmission Planner(s), Transmission Owner(s), and Transmission Operator(s) regarding their Facilities, as follows:

R7. Each Generator Owner shall provide Facility Ratings (for its solely and jointly owned Facilities that are existing Facilities, new Facilities, modifications to existing Facilities and re-ratings of existing Facilities) to its associated Reliability Coordinator(s), Planning Coordinator(s), Transmission Planner(s), Transmission Owner(s) and Transmission Operator(s) as scheduled by such requesting entities.

⁵ Burden is defined as the total time, effort, or financial resources expended by persons to generate, maintain, retain, or disclose or provide information to or for a Federal agency. For further explanation of what is included in the information collection burden, refer to 5 CFR part 1320.

⁶ The Commission staff thinks that the average respondent for this collection is similarly situated to the Commission, in terms of salary plus benefits. Based on FERC's 2020 annual average of $172,329 (for salary plus benefits), the average hourly cost is $83/hour.

⁷ The type of entity effect is the NERC registered GO = Generator Owners (1,003). This reduction for 725A represent a decrease in burden but the GOs still have other obligations, so the 1,003 is included for information purpose but does not affect the overall number of entities in 725A.

In the years since Reliability Standard FAC-008-3 was developed, NERC has developed other Reliability Standards that render the data provision obligations of Requirement R7 redundant. Specifically, Reliability Standards MOD-032-1, IRO-010-2, and TOP-003-3 contain provisions to help ensure that the entities that have the responsibility to plan and operate the Bulk Power System have the data they need from Generator Owners and Transmission Owners for operations and planning. Requirement R1 of Reliability Standard MOD-032-1—Data for Power System Modeling and Analysis requires the Planning Coordinator and Transmission Planner to develop modeling data requirements and reporting procedures including the data listed in Attachment 1 to the standard. This data would include information on power capabilities and Facility Ratings. Requirement R2 requires the Generator Owner and Transmission Owner to provide the requested information. Requirement R1 of Reliability Standard IRO-010-2—Reliability Coordinator Data Specification and Collection requires the Reliability Coordinator to maintain a documented specification for the data necessary to perform its Operational Planning Analyses, Real-time monitoring, and Real-time Assessments. This data necessarily includes Facility Ratings as inputs to System Operating Limit monitoring. Requirement R3 requires the Transmission Owner and Generator Owner to provide requested data. Similarly, Requirement R1 of Reliability Standard TOP-003-3—Operational Reliability Data requires the Transmission Operator to maintain a documented data specification (Requirement R1) and for the Transmission Owner and Generator Owner to provide the requested data (Requirement R5).

Estimate of Annual Burden: ⁵ The Commission estimates the burden and cost ⁶ for this information collection as follows.

Proposed Changes to Burden Due to Docket No. RD20-4-000 Adjustments and Clarifications
Reliability standard & requirements | Number of respondents & type of entity | Annual number of responses per respondent | Annual number of responses | Average burden hrs. per response | Total annual burden hours
| (1) | (2) | (1) * (2) = (3) | (4) | (3) * (4) = (5)
RD21-4 Net Changes to FERC-725A, OMB Control No. 1902-0244
FAC-008-05 (Facility Ratings) ⁷ | 1,003 (No Change) | 1 | 1,003 (No Change) | −10 hrs. (Reduction) | −10,030 hrs. (Reduction).

IC21-19-000 Renewal of 725A

The following table represents the current burden associated with all Mandatory Reliability Standards that fall under FERC-725A.

Reliability standard & requirement | Number of entity ⁸ | Number of annual responses per entity | Total number of responses | Average number of burden hours per response | Total burden hours
| (1) | (2) | (1) * (2) = (3) | (4) | (3) * (4) = (5)
FERC-725A
Mandatory Reliability Standards for Bulk Power System | (3,420) | 1 | 3,420 | 428.86 | 1,466,716 hrs.
RD21-4 Net Changes | 1,003 (No change) | 1 | 1,003 (No Change) | −10 | −10,030 hrs. (Reduction).
Total for FERC-725A |  |  |  |  | 1,456,686 hrs.

Note: FAC-008-05 is a part of the Bulk Power System burden totals. The net changes for the responses and hours will affect the totals for the row stated “Mandatory Reliability Standards for Bulk Power System”.

⁸ This is a list of NERC registered entities who under 725A need to follow the NERC Standards. BA = Balancing Authority (99); DP = Distribution Provider (373); GP = Generator Owner (1,003); Generator Operator (937); PA PC Planning Authority Planning Coordinator (65); RC = Reliability Coordinator (11); RP = Resource Planner (160); RSG = Reserve Sharing Group (11); FRSG = Frequency Response Sharing Group (1); TO = Transmission Owner (321); TOP = Transmission Operator (167); TP = Transmission Provided (201); TSP = Transmission Service Provider (71); for a sum total of (3,420). The same entity may have multiple registration obligation to follow under 725A so an individual entity's obligation increases based on registration functions. These values were derived from the NERC Compliance data of February 5, 2021 using only unique United States registered entities.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 29, 2021.
Kimberly D. Bose,
Secretary.

[FR Doc. 2021-09519 Filed 5-4-21; 8:45 am]

BILLING CODE 6717-01-P